NATIONAL SCIENCE FOUNDATION

Conservation Act of 1978 Notice of Permit Modification

AGENCY: National Science Foundation.

SUMMARY: The Foundation modified a permit to conduct activities regulated under the Antarctic Conservation Act of 1978 (Public Law 95-541; Code of Federal Regulations Title 45, part 670).

FOR FURTHER INFORMATION CONTACT: Nadene G. Kennedy, Permit Officer, Office of Polar Programs, Rm. 755, National Science Foundation, 4201 Wilson Boulevard, Arlington, VA 22230.

Description of Permit and Modification: On March 12, 2001, the National Science Foundation issued a permit (ACA #2001-025) to Dr. Daniel P. Costa after posting a notice in the January 31, 2001 Federal Register. Public comments were not received. A request to modify the permit was posted in the Federal Register on March 5, 2002. No public comments were received. The modification, issued by the Foundation on April 8, 2002, allows the permit holder to enter several Antarctic Specially Protected Areas in the Antarctic Peninsula in order to capture and attached satellite relay data loggers (SRDL) on up to 25 crabeater seals. Access to the sites will only take place to locate seals hauled up on the shore, in situations where there are no seals available on the surrounding pack ice.

Location: Dion Islands (ASPA #107), Lagotellerie Island (ASPA #116), Avian Island (ASPA #117), and Rothera Point, Adelaide Island (ASPA #129).

Nadene G. Kennedy,
Permit Officer.

[FR Doc. 02-8995 Filed 4-10-02; 8:45 am]

BILLING CODE 7555-01-M